DEPARTMENT OF AGRICULTURE

Office of the Secretary

[Docket No. 05-039-1]

Public Meeting: The Safety of North American Beef and the Economic Effect of BSE on the U.S. Beef Industry

AGENCY: Office of the Secretary, USDA.

ACTION: Notice of meeting.

SUMMARY: We are giving notice of a roundtable meeting regarding the safety of North American beef and the economic effects of BSE on the U.S. beef industry. The event will bring together USDA officials, producers, packers, and others to discuss the science of BSE, the safety of North American cattle and beef, and the economic impacts of BSE on the U.S. cattle and beef industry. Roundtable panelists will be invited, but the meeting will be open to the public. There will be an opportunity for members of the public to comment.

DATES: The meeting will be held on June 9, 2005, from 9:30 a.m. to 2:30 p.m.

ADDRESSES: The meeting will be held in the Minneapolis-St. Paul, MN, metropolitan area. For the specific address, go to http://www.usda.gov.

FOR FURTHER INFORMATION CONTACT: For information regarding meeting logistics or to request special accommodations, contact Annette Maros, Facility Manager, at (612) 336-3249.

SUPPLEMENTARY INFORMATION: The U.S. Department of Agriculture (USDA) will hold a roundtable discussion on June 9, 2005, regarding the safety of North American cattle and beef and the economic effects of BSE on the U.S. cattle and beef industry. The roundtable discussion, entitled “The Safety of North American Beef and the Economic Effect of BSE on the U.S. Beef Industry,” will bring together USDA officials, producers, packers, and others to discuss the science of BSE, the safety of North American cattle and beef, and the economic impacts of the detection of BSE on the U.S. cattle and beef industry, including livestock producers and meat packers and processors.

Panelists presenting during the roundtable discussions will be invited, but the meeting will be open to the public. No advance registration is required, but seating is available on a first-come, first-served basis. There will be an opportunity for members of the public to comment. Persons wishing to do so will be asked to sign up and will be accommodated to the extent possible in the order in which they register to speak.

If you require special accommodations, such as a sign language interpreter, please contact Annette Maros at (612) 336-3249.

Done in Washington, DC, this 27th day of May, 2005.
Chuck Connor,
Deputy Secretary of Agriculture.

[FR Doc. 05-11018 Filed 6-1-05; 8:45 am]

BILLING CODE 3410-34-P